DEPARTMENT OF COMMERCE

International Trade Administration

DEPARTMENT OF THE INTERIOR

15 CFR Part 303

[Docket No. 080716841-81292-02]

RIN 0625-AA80

Changes in the Insular Possessions Watch, Watch Movement and Jewelry Programs 2008

AGENCIES: Import Administration, International Trade Administration, Department of Commerce; Office of Insular Affairs, Department of the Interior.

ACTION: Final rule.

SUMMARY: The Departments of Commerce and the Interior (the Departments) amend their regulations governing watch duty-exemption allocations and watch and jewelry duty-refund benefits for producers in the United States insular possessions (the U.S. Virgin Islands, Guam, American Samoa and the Commonwealth of the Northern Mariana Islands). The rule amends the regulations by updating the formula that is used to calculate the combined amount of individual and family health and life insurance per year that is creditable towards the duty refund benefit.

DATES: This rule is effective November 21, 2008.

ADDRESSES: Address written comments to Faye Robinson, Director, Statutory Import Programs Staff, Room 2104, U.S. Department of Commerce, 14th and Constitution Ave., N.W., Washington, D.C. 20230.

FOR FURTHER INFORMATION CONTACT: Faye Robinson, (202) 482-3526, same address as above.

SUPPLEMENTARY INFORMATION: The Departments issue this rule to amend their regulations governing watch duty-exemption allocations and watch and jewelry duty-refund benefits for producers in the United States insular possessions (the U.S. Virgin Islands, Guam, American Samoa and the Commonwealth of the Northern Mariana Islands). The background information and purpose of this rule is found in the preamble to the proposed rule (73 FR 49371, August 21, 2008) and is not repeated here.

Amendments

The Departments amend §303.2(a)(13)(ii), §303.2(a)(13)(ii)(A), §303.2(a)(14)(ii), §303.2(a)(14)(ii)(A), §303.16(a)(9)(ii), §303.16(a)(9)(ii)(A), §303.16(a)(10)(ii), and §303.2(a)(10)(ii)(A) by increasing the percentage used to calculate the combined amount of individual and family health and life insurance per year that is creditable towards the duty refund benefit for watch and jewelry producers. Under the rule, the combined creditable amount of individual health and life insurance per year may not exceed 130 percent of the “weighted average” yearly individual federal employee health insurance, and the combined creditable amount of family health and life insurance per year may not exceed 150 percent of the “weighted average” yearly family federal employee health insurance.

The Departments received no comments in response to the proposed rule and request for comments. As a result, the Departments are adopting the proposed regulations without change.

Administrative Law Requirements

Regulatory Flexibility Act. In accordance with the Regulatory Flexibility Act, 5 U.S.C. 601 et seq., the Chief Counsel for Regulation at the Department of Commerce certified to the Chief Counsel for Advocacy, Small Business Administration, at the proposed rule stage, that this rule would not have a significant economic impact on a substantial number of small entities. The factual basis for this certification was published in the proposed rule and is not repeated here. No comments were received on the certification or on the economic effects of the rule more generally.

Paperwork Reduction Act. This rulemaking does not contain revised collection of information requirements subject to review and approval by the Office of Management and Budget (OMB) under the Paperwork Reduction Act of 1995. Collection activities are currently approved by the Office of Management and Budget under control numbers 0625-0040 and 0625-0134.

Notwithstanding any other provision of the law, no person is required to respond to, nor shall any person be subject to a penalty for failure to comply with a collection of information unless it displays a currently valid OMB control number.

E.O. 12866. It has been determined that this rulemaking is not significant for purposes of Executive Order 12866.

List of Subjects in 15 CFR Part 303

Administrative practice and procedure, American Samoa, Customs duties and inspection, Guam, Imports, Marketing quotas, Northern Mariana Islands, Reporting and record keeping requirements, Virgin Islands, Watches and jewelry.

For reasons set forth above, the Departments amend 15 CFR Part 303 as follows:

PART 303—WATCHES, WATCH MOVEMENTS AND JEWELRY PROGRAMS

1. The authority citation for 15 CFR Part 303 continues to read as follows:

Authority: Pub. L. 97-446, 96 Stat. 2331 (19 U.S.C. 1202, note); Pub. L. 103-465, 108 Stat. 4991; Pub. L. 94-241, 90 Stat. 263 (48 U.S.C. 1681, note); Pub. L. 106-36, 113 Stat.167; Pub. L. 108-429, 118 Stat. 2582.

§ 303.2 [Amended]

2. Section 303.2 is amended as follows:

A. Remove “100” from the first sentence in paragraph (a)(13)(ii) introductory text and add “130” in its place.

B. Remove “120” from the first sentence in paragraph (a)(13)(ii)(A) and add “150” in its place.

C. Remove “100” from the first sentence in paragraph (a)(14)(ii) introductory text and add “130” in its place.

D. Remove “120” from the first sentence in paragraph (a)(14)(ii)(A) and add “150” in its place.

§ 303.16 [Amended]

3. Section 303.16 is amended as follows:

A. Remove “100” from the first sentence in paragraph (a)(9)(ii) introductory text and add “130” in its place.

B. Remove “120” from the first sentence in paragraph (a)(9)(ii)(A) and add “150” in its place.

C. Remove “100” from the first sentence in paragraph (a)(10)(ii) introductory text and add “130” in its place.

D. Remove “120” from the first sentence in paragraph (a)(10)(ii)(A) and add “150” in its place.

Dated: October 16, 2008.
David Spooner,
Assistant Secretary for Import Administration, Department of Commerce.
Dated: October 16, 2008.
Joseph McDermott,
Acting Director, Office of Insular Affairs, Department of the Interior.

[FR Doc. E8-25167 Filed 10-21-08; 8:45 am]

BILLING CODE 3510-DS-S